DEPARTMENT OF COMMERCE

National Oceanic and Atmospheric Administration

50 CFR Part 600

[I.D. 061102B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Summer Flounder, Scup and Black Sea Bass Fishery Management Plan (FMP). However, further review and consultation may be necessary before a final determination is made to issue an EFP. Therefore, NMFS announces that the Regional Administrator proposes to issue an EFP that would allow one vessel to conduct fishing operations otherwise restricted by the regulations governing the fisheries of the Northeastern United States. The EFP would allow for an exemption to the black sea bass, Centropristis striata, closure requirements of the FMP. The experiment, coordinated by the Virginia Institute of Marine Sciences (VIMS), proposes to conduct fishing activities to compare black sea bass retention and discard rates using two different black sea bass pot escape vent configurations. Regulations under the Magnuson-Stevens Fishery Conservation and Management Act require publication of this notification to provide interested parties the opportunity to comment on applications for proposed EFPs.

DATES: Comments on this document must be received on or before 5 p.m. EST July 12, 2002.

ADDRESSES: Written comments should be sent to Patricia A. Kurkul, Regional Administrator, NMFS, Northeast Regional Office, 1 Blackburn Drive, Gloucester, MA 01930. Mark the outside of the envelope “Comments on BSB Escape Vent EFP Proposal.” Comments may also be sent via facsimile (fax) to (978) 281-9135.

FOR FURTHER INFORMATION CONTACT: Richard A. Pearson, Fishery Policy Analyst, 978-281-9279.

SUPPLEMENTARY INFORMATION: An application for an EFP was submitted to NMFS by VIMS on April 23, 2002. The EFP is being requested to facilitate a research project that would compare black sea bass retention and discard rates using two different escape vent configurations in black sea bass pots. Approximately 15 fishing trips would be conducted off the coasts of Maryland and Virginia during the autumn of 2002. To provide the greatest potential for fishing success, it would be necessary to allow the vessel to fish for, and possess, black sea bass during closures that may be implemented due to the attainment of the commercial quota. Black sea bass harvested during closure periods would not be landed, and would be returned to the water as soon as practicable.

The project will compare differences in the escapement of undersized black sea bass (less than 11 inches (27.94 cm)) between currently mandated single, 2-inch (5.08--cm) square escape vents and an experimental design in which the entire parlor section of the trap is constructed of 2-inch (5.08-cm) square mesh. The objective of the research is to investigate the effectiveness of the experimental trap design at reducing the retention and discard of sublegal black sea bass, without affecting the retention rate of legal-sized black sea bass.

Traps with a single, 2-inch (5.08-cm) square escape vent would serve as controls. The experiment would use a randomized survey whereby three traps (one control and two experimental) are connected by rope at regular intervals and deployed. One rope, or “string,” of traps would be deployed at 10 different fishing sites per trip. These sites will be in close enough proximity to allow the traps to be hauled twice per day. Sixty traps per day are proposed to be hauled (3/traps/string, 1 string/site, and 10 sites hauled twice daily). Approximately 15 day-long research fishing trips are proposed for the project during the autumn months of 2002. The fishing activity will occur primarily between Wachapreague, VA, and Ocean City, MD.

To facilitate the collection of data during periods with the greatest potential for fishing success, the EFP would exempt one commercial vessel from the closure regulations specified at 50 CFR part 648, subpart I, and allow the vessel to fish for and possess black sea bass during periods when the commercial fishery is closed due to attainment of the quarterly quota. VIMS researchers will be onboard the participating vessel during all research trips. Any black sea bass harvested during a closure period would not be allowed to be landed, and would be returned to the water as soon as practicable after measurement of the fish. The commercial vessel that would participate in the research project has two live tanks onboard, which should reduce any discard mortality to black sea bass that could occur during a closure. Therefore, the catch levels during closed seasons are not expected to have a detrimental impact on the black sea bass resource. Any landings that would occur during an open season would be reported in the Vessel Trip Report, as required, because the participating vessel possesses a commercial black sea bass moratorium permit.

Authority: 16 U.S.C. 1801 et seq.

Dated: June 21, 2002.
Virginia M. Fay,
Acting Director, Office of Sustainable Fisheries, National Marine Fisheries Service.

[FR Doc. 02-16281 Filed 6-26-02; 8:45 am]

BILLING CODE 3510-22-S